DEPARTMENT OF THE INTERIOR

National Park Service

[NPS-WASO-NAGPRA-NPS0039965; PPWOCRADN0-PCU00RP14.R50000]

Notice of Inventory Completion: University of California, Berkeley, Berkeley, CA

AGENCY: National Park Service, Interior.

ACTION: Notice.

SUMMARY: In accordance with the Native American Graves Protection and Repatriation Act (NAGPRA), the University of California, Berkeley has completed an inventory of associated funerary objects and has determined that there is a cultural affiliation between the associated funerary objects and Indian Tribes or Native Hawaiian organizations in this notice.

DATES: Repatriation of the associated funerary objects in this notice may occur on or after May 19, 2025.

ADDRESSES: Alexandra Lucas, Government and Community Relations, Office of the Chancellor. University of California, Berkeley. 200 California Hall, Berkeley, CA 94720, telephone (510) 570-0964, email nagpra-ucb@berkeley.edu.

SUPPLEMENTARY INFORMATION: This notice is published as part of the National Park Service's administrative responsibilities under NAGPRA. The determinations in this notice are the sole responsibility of the University of California, Berkeley, and additional information on the determinations in this notice, including the results of consultation, can be found in its inventory or related records. The National Park Service is not responsible for the determinations in this notice.

Abstract of Information Available

Prior to 1906, 979 lots of associated funerary objects were removed from San Nicolas Island, California by several individuals and donated to the Lowie Museum of Anthropology (now known by Phoebe A Hearst Museum) at the University of California, Berkeley. The 979 lots of associated funerary objects are atlatls, awls, basketry, bone figurine, bone knives, bone needles, bone ornaments, bone pendants, bone scrapers, bone swords, bone tools (one missing), bone tubes, cartridges, charcoal samples, chipped-stone crescents, clubs, comals, cordage, drills, faunal remains (18 missing), fish hooks, flakes, flutes, ground stone, hammerstones, harpoons, knives, mineral and rock samples (one missing), mortars (two missing), painting supplies, pebbles, pestles, plummets, projectile points (one missing), scrapers, shell beads, shell dishes, shell ornaments (one missing), shell pendants, sinkers, soil samples, spearheads, stone beads, stone bowls, stone dishes, stone ornaments, stone pendants, stone pipes (one missing), stone tools, stone tubes, stone vessels, weights, whistles, wood fragments, wood tools, worked bone, worked shell, and worked stone (one missing).

Collections and collection spaces at the Phoebe A Hearst Museum of Anthropology were treated with substances for preservation and pest control, some potentially hazardous. No records have been found to date at the Museum to indicate whether or not chemicals or natural substances were used prior to 1960.

Cultural Affiliation

Based on the information available and the results of consultation, cultural affiliation is reasonably identified by the geographical location or acquisition history of the associated funerary objects described in this notice.

Determinations

The University of California, Berkeley has determined that:

• The 979 lots of associated funerary objects described in this notice are reasonably believed to have been placed intentionally with or near individual human remains at the time of death or later as part of the death rite or ceremony.

• There is a connection between the associated funerary objects described in this notice and the La Jolla Band of Luiseno Indians, California; Pala Band of Mission Indians; Pauma Band of Luiseno Mission Indians of the Pauma & Yuima Reservation, California; Pechanga Band of Indians (previously listed as Pechanga Band of Luiseno Mission Indians of the Pechanga Reservation, California); Rincon Band of Luiseno Mission Indians of Rincon Reservation, California; Santa Ynez Band of Chumash Mission Indians of the Santa Ynez Reservation, California; and the Soboba Band of Luiseno Indians, California.

Requests for Repatriation

Written requests for repatriation of the associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or an Indian Tribe or Native Hawaiian organization with cultural affiliation.

Repatriation of the associated funerary objects described in this notice to a requestor may occur on or after May 19, 2025. If competing requests for repatriation are received, the University of California, Berkeley must determine the most appropriate requestor prior to repatriation. Requests for joint repatriation of the associated funerary objects are considered a single request and not competing requests. The University of California, Berkeley is responsible for sending a copy of this notice to the Indian Tribes and Native Hawaiian organizations identified in this notice.

Authority: Native American Graves Protection and Repatriation Act, 25 U.S.C. 3003, and the implementing regulations, 43 CFR 10.10.

Dated: April 8, 2025.
Melanie O'Brien,
Manager, National NAGPRA Program.

[FR Doc. 2025-06653 Filed 4-17-25; 8:45 am]

BILLING CODE 4312-52-P